DEPARTMENT OF ENERGY

Federal Energy Regulatory Commission

18 CFR Parts 101, 201 and 352

[Docket No. RM02-14-000]

Regulation of Cash Management Practices

September 6, 2002.

AGENCY: Federal Energy Regulatory Commission.

ACTION: Notice of technical conference.

SUMMARY: On August 1, 2002, the Commission issued a Notice of Proposed Rulemaking concerning the regulation of cash management practices (67 FR 51150, August 7, 2002). The Commission is convening a technical conference to discuss issues raised in comments to the proposed regulations.

DATES: September 25, 2002.

ADDRESSES: Federal Energy Regulatory Commission, 888 First Street, NE., Washington, DC 20426.

FOR FURTHER INFORMATION CONTACT: Abraham Silverman, Federal Energy Regulatory Commission, 888 First Street, NE., Washington, DC 20426, (202) 502-6010, (202) 208-0017 (facsimile), e-mail: abraham.silverman@ferc.gov.

SUPPLEMENTARY INFORMATION: Take notice the Commission staff will hold a technical conference to discuss the issues raised in comments to the proposed regulations governing cash management practices.

Take notice that the conference will be held on Wednesday, September 25, 2002, in a room to be designated at the offices of the Federal Energy Regulatory Commission, 888 First Street, NE., Washington, DC. The conference is being convened to enlist the participation of interested parties in the development of regulations to govern centralized cash management programs such as concentration and zero balance accounts and money pooling arrangements.

Participants may be assigned to a panel in order to establish a logical order of presentation and to facilitate an exchange of views. The technical conference is intended to be structured so that participants can discuss the proposed rule issued on August 1, 2002, documentation requirements, and other issues related to the various types of centralized cash management programs used by jurisdictional entities that are owned, or directly or indirectly controlled by other entities as part of a consolidated group. The goal of the conference is to obtain additional information on centralized cash management programs. This information will be used in the development of revisions to the Commission's existing accounting and reporting requirements.

Persons who wish to participate in the conference should, no later than Thursday September 12, 2002, notify Abraham Silverman by telephone at (202) 502-6444, or by facsimile at (202) 208-0017, or by e-mail: abraham.silverman@ferc.gov or Wayne McDanal by telephone at (202) 502-6010, or by facsimile at (202) 219-2632, or by e-mail: wayne.mcdanal@ferc.gov.

After reviewing the requests to participate, the Commission staff will issue a subsequent notice in the Federal Register specifying the time and place, and a proposed agenda. For additional information, interested persons may contact Peter Roidakis by telephone at (202) 502-8206 (or by e-mail peter.roidakis@ferc.gov) or Wayne McDanal by telephone at (202) 502-6010 (or by e-mail wayne.mcdanal@ferc.gov).

Magalie R. Salas,
Secretary.

[FR Doc. 02-23217 Filed 9-12-02; 8:45 am]

BILLING CODE 6717-01-P